DEPARTMENT OF THE INTERIOR

National Park Service

[NPS-WASO-NAGPRA-12187;2200-1100-665]

Notice of Inventory Completion: Grand Rapids Public Museum, Grand Rapids, MI

AGENCY: National Park Service, Interior.

ACTION: Notice.

SUMMARY: The Grand Rapids Public Museum has completed an inventory of human remains and associated funerary objects, in consultation with the appropriate Indian tribes, and has determined that there is a cultural affiliation between the human remains and associated funerary objects and a present-day Indian tribe. Representatives of any Indian tribe that believes itself to be culturally affiliated with the human remains and associated funerary objects may contact the Grand Rapids Public Museum. Repatriation of the human remains and associated funerary objects to the Indian tribe stated below may occur if no additional claimants come forward.

DATES: Representatives of any Indian tribe that believes it has a cultural affiliation with the human remains and associated funerary objects should contact the Grand Rapids Public Museum at the address below by March 21, 2013.

ADDRESSES: Marilyn Merdzinski, Director of Education & Interpretation, Grand Rapids Public Museum, 272 Pearl St. NW., Grand Rapids, MI 49501, telephone (616) 929-1801.

SUPPLEMENTARY INFORMATION: Notice is here given in accordance with the Native American Graves Protection and Repatriation Act (NAGPRA), 25 U.S.C. 3003, of the completion of an inventory of human remains and associated funerary objects in the possession of the Grand Rapids Public Museum, Grand Rapids, MI. The human remains and associated funerary objects were removed from an unknown location in northern Tennessee.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the Grand Rapids Public Museum professional staff in consultation with representatives of the Chickasaw Nation, the Eastern Band of Cherokee Indians, and the United Keetoowah Band of Cherokee Indians in Oklahoma. By letter to the Grand Rapids Public Museum in 2010, the Eastern Band of Cherokee Indians and the United Keetoowah Band of Cherokee Indians in Oklahoma deferred to any other tribe who may claim cultural affiliation.

History and Description of the Remains

At an unknown date, human remains representing, at minimum, one individual were removed from an unknown location in northern Tennessee. At an unknown date, the human remains and associated funerary objects were acquired by Dr. Ruth Herrick from an unknown individual. In 1974, the human remains and associated funerary objects were donated to the Grand Rapids Public Museum by bequest. No known individuals were identified. The 12 associated funerary objects are: 1 bark bundle, 1 lot of glass fragments, 1 polished stone, 1 sandstone artifact, 1 stone with red ocher adhering, 1 musket fragment, 1 lot of gun flints, 1 lot of musket balls, 1 metallic mineral, 1 lot of silver pins, 1 lot of textile fragments, and 1 lot of copper pendants, beads, glass, and buttons.

The determination to affiliate these human remains and associated funerary objects with the Chickasaw group is based on the following categories of evidence: geographical, ethnohistorical, archaeological, anthropological, oral traditions, historical, and collections documentation at the Grand Rapids Public Museum. Museum documentation indicates that the burial is Chickasaw and the associated funerary objects date the burial to sometime between the 17th and 19th centuries of the historic period. The Chickasaw tribe, today represented by the Chickasaw Nation, is known to have had an historic period presence in the area where the human remains and associated funerary objects were removed.

Determinations Made by the Grand Rapids Public Museum

Officials of the Grand Rapids Public Museum have determined that:

• Pursuant to 25 U.S.C. 3001(9), the human remains described in this notice represent the physical remains of one individual of Native American ancestry.

• Pursuant to 25 U.S.C. 3001(3)(A), the 12 objects described above are reasonably believed to have been placed with or near individual human remains at the time of death or later as part of the death rite or ceremony.

• Pursuant to 25 U.S.C. 3001(2), there is a relationship of shared group identity that can be reasonably traced between the Native American human remains and associated funerary objects and the Chickasaw Nation.

Additional Requestors and Disposition

Representatives of any Indian tribe that believes itself to be culturally affiliated with the human remains and associated funerary objects should contact Marilyn Merdzinski, Director of Education & Interpretation, Grand Rapids Public Museum, 272 Pearl St. NW., Grand Rapids, MI 49501, telephone (616) 929-1801, before March 21, 2013. Repatriation of the human remains and associated funerary objects to the Chickasaw Nation may proceed after that date if no additional claimants come forward.

The Grand Rapids Public Museum is responsible for notifying the Chickasaw Nation, the Eastern Band of Cherokee Indians, and the United Keetoowah Band of Cherokee Indians in Oklahoma that this notice has been published.

Dated: January 25, 2013.
Melanie O'Brien,
Acting Manager, National NAGPRA Program.

[FR Doc. 2013-03632 Filed 2-15-13; 8:45 am]

BILLING CODE 4312-50-P